DEPARTMENT OF HEALTH AND HUMAN SERVICES

National Institutes of Health

Expediting Research Tools to NIH Licensees Through the Use of Pay.gov for Rapid Processing of Royalty Payments

AGENCY: National Institutes of Health, Public Health Service, HHS.

ACTION: Notice.

SUMMARY: NIH licensees can now expedite the receipt of research tools through the use of Pay.gov for rapid processing of their royalty payments.

SUPPLEMENTARY INFORMATION: With its introduction earlier this year, NIH licensees have found that using the new royalty payment site within Pay.gov expedites processing times for shipment of their research tools licensed from the NIH and FDA intramural research programs. The value of such time savings to corporate R&D programs is not trivial since waiting too long to secure research materials or tools can delay or sink a critical drug development program or other business venture. By eliminating the need for bank checks, the bank-to-bank transfer system at Pay.gov has shortened the processing time for research tool and other license agreements from several months down to a day or less. For example, a recent transaction for baculovirus vectors at NIH was indeed processed in a single afternoon allowing for almost instantaneous release of the licensed materials from the inventors laboratory.

Informal comments that NIH has received to date from licensees who have started to use Pay.gov for their royalty payments include: “For Pay.gov, it's easy, convenient and fast, I guess that's what I experienced.”, “It literally only took me about 5 minutes after reading the email/letter to process payment. Great service!” and “I just completed sending all the MAR payments and it was great! I am glad I decided to try the system.”

Pay.gov itself is a multifaceted web-based application allowing anyone to make Automated Clearing House (ACH) payments to government agencies by debit from a checking or savings account. Pay.gov is open 24-7, and is encouraged for use in all types of royalty payments with NIH.

FOR FURTHER INFORMATION CONTACT: Companies looking to save time on their royalty transactions with NIH can easily pay royalties on Pay.gov by going to https://www.pay.gov and clicking on NIH in the agency list. Pay.gov is maintained by the U.S. Department of the Treasury. For more information about the Pay.gov system itself, visit https://www.pay.gov/paygov/faqs.html.

Dated: July 28, 2011.
Steven M. Ferguson,
Deputy Director, Licensing & Entrepreneurship, Office of Technology Transfer, National Institutes of Health.

[FR Doc. 2011-19821 Filed 8-3-11; 8:45 am]

BILLING CODE 4140-01-P